ENVIRONMENTAL PROTECTION AGENCY

[FRL-6962-8]

Final Modification of the National Pollutant Discharge Elimination System (NPDES) General Permit for the Eastern Portion of the Outer Continental Shelf (OCS) of the Gulf of Mexico (GMG280000); Corrections

AGENCY: Environmental Protection Agency (EPA).

ACTION: Notice; corrections.

SUMMARY: EPA published a notice in the Federal Register of March 14, 2001 (66 FR 14988), for the Final Modification of the National Pollutant Discharge Elimination System (NPDES) General Permit for the Eastern Portion of the Outer Continental Shelf (OCS) of the Gulf of Mexico (GMG280000). The document contained typographical errors and omissions.

FOR FURTHER INFORMATION CONTACT: William Truman, (404) 562-9457.

SUPPLEMENTARY INFORMATION:

Corrections

In the Federal Register of Wednesday, March 14, 2001, in FR Doc. 01-6175, make the following corrections:

1. On page 14994, the second column, under the heading “3. Produced Water”, the following is inserted as the third paragraph:

“Facilities that pass six consecutive produced water toxicity tests will be allowed to change to a frequency of once/every six months; otherwise bimonthly testing shall continue”

2. On page 14996, the third column, the first table, correct the title to read:

“4.—PRODUCED WATER CRITICAL DILUTIONS (PERCENT EFFLUENT) FOR WATER DEPTHS OF LESS THAN 200 METERS”.

3. On page 14998, Table 2, under the heading “Measurement frequency” for “Miscellaneous discharges of seawater and freshwater to which treatment chemicals have been added.”, correct “1/week” to read “Once/day when discharging”.

4. On page 14999, Table 3, under the heading “Measurement frequency” for “Miscellaneous discharges of seawater and freshwater to which treatment chemicals have been added.”, correct “1/week” to read “Once/day when discharging”.

Dated: March 14, 2001.
A. Stanley Meiburg,
Acting Regional Administrator, Region 4.

[FR Doc. 01-8483 Filed 4-5-01; 8:45 am]

BILLING CODE 6560-50-P